DEPARTMENT OF COMMERCE

International Trade Administration

[A-560-833]

Utility Scale Wind Towers From Indonesia: Final Results of Antidumping Duty Administrative Review; 2021-2022

AGENCY: Enforcement and Compliance, International Trade Administration, Department of Commerce.

SUMMARY: The U.S. Department of Commerce (Commerce) determines that PT. Kenertec Power System (Kenertec) made sales of subject merchandise at less than normal value during the period of review (POR), August 1, 2021, through July 31, 2022.

DATES: Applicable March 11, 2024.

FOR FURTHER INFORMATION CONTACT: Amaris Wade, AD/CVD Operations, Office II, Enforcement and Compliance, International Trade Administration, U.S. Department of Commerce, 1401 Constitution Avenue NW, Washington, DC 20230; telephone: (202) 482-6334.

SUPPLEMENTARY INFORMATION:

Background

On September 7, 2023, Commerce published in the Federal Register the Preliminary Results of the 2021-2022 administrative review ¹ of the antidumping duty order on utility scale wind towers from Indonesia.² This review covers one producer/exporter of the subject merchandise, Kenertec. We invited interested parties to comment on the Preliminary Results.³ On October 10, 2023, we received case briefs from Kenertec and the Wind Tower Trade Coalition (i.e., the petitioner).⁴ On October 24, 2023, we received rebuttal briefs from Kenertec and the petitioner.⁵ On December 26, 2023, Commerce extended the deadline for the final results of review until March 5, 2024.⁶ For a complete description of the events that occurred since the Preliminary Results, see the Issues and Decision Memorandum.⁷ Commerce conducted this review in accordance with section 751(a)(1)(B) of the Tariff Act of 1930, as amended (the Act).

¹ See Utility Scale Wind Towers from Indonesia: Preliminary Results of Antidumping Duty Administrative Review; 2021-2022, 88 FR 61523 (September 7, 2022) (Preliminary Results), and accompanying Preliminary Decision Memorandum.

² See Utility Scale Wind Towers from Canada, Indonesia, the Republic of Korea, and the Socialist Republic of Vietnam: Antidumping Duty Orders, 85 FR 52546 (August 26, 2020), as corrected in Utility Scale Wind Towers from Canada, Indonesia, the Republic of Korea, and the Socialist Republic of Vietnam: Notice of Correction to the Antidumping Duty Orders, 85 FR 56213 (September 11, 2020) (collectively, Order).

³ See Preliminary Results, 88 FR 61525.

⁴ See Kenertec's Letter, “Kenertec's Affirmative Brief,” dated October 10, 2023; and Petitioner's Letter, “Case Brief,” dated October 10, 2023.

⁵ See Kenertec's Letter, “Kenertec's Rebuttal Brief,” dated October 24, 2023; and Petitioner's Letter, “Rebuttal Brief,” dated October 24, 2023.

⁶ See Memorandum, “Utility Scale Wind Towers from Indonesia: Extension of the Deadline for Final Results of Antidumping Duty Administrative Review,” dated December 26, 2023.

⁷ See Memorandum, “Issues and Decision Memorandum for the Final Results of the 2021-2022 Administrative Review of the Antidumping Duty Order on Utility Scale Wind Towers from Indonesia,” dated concurrently with, and hereby adopted by, this notice (Issues and Decision Memorandum).

Scope of the Order

The merchandise subject to the Order is certain wind towers, whether or not tapered, and sections thereof, from Indonesia. Merchandise covered by these orders is currently classified in the Harmonized Tariff Schedule of the United States (HTSUS) under subheading 7308.20.0020 or 8502.31.0000. Wind towers of iron or steel are classified under HTSUS 7308.20.0020 when imported separately as a tower or tower section(s). Wind towers may be classified under HTSUS 8502.31.0000 when imported as combination goods with a wind turbine (i.e., accompanying nacelles and/or rotor blades). While the HTSUS subheadings are provided for convenience and customs purposes, the written description of the scope of these orders is dispositive.⁸

⁸ For a complete description of the scope of the Order, see the Issues and Decision Memorandum at 2-3.

Analysis of Comments Received

All issues raised in case and rebuttal briefs by interested parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on a review of the record and comments received from interested parties regarding the Preliminary Results, and for the reasons explained in the Issues and Decision Memorandum, we made certain changes to the weighted-average dumping margin calculation for Kenertec for the final results of review.⁹

⁹ Id.

Final Results of the Review

As a result of this review, we determine the following weighted-average dumping margin exists for the period August 1, 2021, through July 31, 2022:

Exporter or producer | Weighted- average dumping margin (percent)
PT. Kenertec Power System | 1.78

Disclosure

Commerce intends to disclose the calculations performed in connection with these final results of review to interested parties within five days after public announcement of the final results or, if there is no public announcement, within five days of the date of publication of the notice of final results in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.

Pursuant to 19 CFR 351.212(b)(1), we calculated importer-specific ad valorem duty assessment rates based on the ratio of the total amount of dumping calculated for each importer's examined sales and the total entered value of those sales. Where either the respondent's weighted-average dumping margin is zero or de minimis within the meaning of 19 CFR 351.106(c)(1), or an importer-specific assessment rate is de minimis (i.e., less than 0.5 percent), we will instruct CBP to liquidate the appropriate entries without regard to antidumping duties.

For entries of subject merchandise during the POR produced by Kenertec for which it did not know that its merchandise was destined for the United States, we will instruct CBP to liquidate such entries at the all-others rate established in the less-than-fair-value (LTFV) investigation of 8.53 percent ad valorem,¹⁰ if there is no rate for the intermediate company(ies) involved in the transaction.

¹⁰ See Utility Scale Wind Towers from Indonesia: Final Determination of Sales at Less Than Fair Value and Final Negative Determination of Critical Circumstances, 85 FR 40231, 40232 (July 6, 2020).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of the subject merchandise entered, or withdrawn from warehouse, for consumption on or after the publication date of the final results of this administrative review, as provided by section 751(a)(2) of the Act: (1) the cash deposit rate for the company subject to this review will be equal to the weighted-average dumping margin established in these finals results of the review; (2) for merchandise exported by producers or exporters not covered in this review but covered in a prior completed segment of the proceeding, the cash deposit rate will continue to be the company-specific rate published in the completed segment for the most recent period; (3) if the exporter is not a firm covered in this review, a prior review, or the LTFV investigation, but the producer has been covered in a prior completed segment of this proceeding, then the cash deposit rate will be the rate established in the completed segment for the most recent period for the producer of the merchandise; and (4) the cash deposit rate for all other producers or exporters will continue to be 8.53 percent, the all-others rate established in the LTFV investigation for this proceeding.¹¹ These cash deposit requirements, when imposed, shall remain in effect until further notice.

¹¹ Id.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice serves as the only reminder to parties subject to an administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and the terms of an APO is a violation which is subject to sanction.

Notification to Interested Parties

We are issuing and publishing this notice in accordance with sections 751(a)(1) and 777(i) of the Act, and 19 CFR 351.221(b)(5).

Dated: March 5, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Packing Expenses

Comment 2: Whether Commerce Should Increase the Reported Cost of Production (COP) to Account for Affiliate Services

Comment 3: Whether Labor and Overhead Expenses Assigned to Non-Wind Towers Should Be Assigned to Wind Towers

Comment 4: Arm's Length Nature of Movement Expenses

Comment 5: Whether Commerce Should Use Production Costs Without Auditor's Adjustment

Comment 6: Whether Commerce Should Recalculate the Reported General and Administrative (G&A) and Interest Expenses

Comment 7: Deduction of Comparison Market Sales Expenses

Comment 8: Application of the Comparison Market Revenue Cap

Comment 9: Application of the U.S. Market Revenue Cap

Comment 10: Direct Selling Expenses in U.S. Market

Comment 11: Constructed Value (CV) and Which Financial Statements, If Any, Commerce Should Use

VI. Recommendation

[FR Doc. 2024-05064 Filed 3-8-24; 8:45 am]

BILLING CODE 3510-DS-P